DEPARTMENT OF TRANSPORTATION

Federal Highway Administration

Environmental Impact Statement; Hennepin and Ramsey Counties, Minnesota

AGENCY: Federal Highway Administration (FHWA), DOT.

ACTION: Notice of intent.

SUMMARY: The FHWA is issuing this notice to advise the public that a Tier 1 Environmental Impact Statement (EIS) will be prepared for a proposed freeway corridor improvement project on Interstate 94 (I-94) from the I-35W/Trunk Highway (TH) 55 interchange to the I-94/I-35E interchange in Hennepin and Ramsey Counties in east-central Minnesota.

FOR FURTHER INFORMATION CONTACT: Anna Varney, Senior Transportation Engineer, Federal Highway Administration, 380 Jackson Street, Suite 500, Saint Paul, MN 55101, Telephone (651) 291-6117, or Nicole Peterson, Project Manager, Minnesota Department of Transportation (Metro District) MnDOT Rethinking I-94 Project Office 1821 University Ave #N—181 Saint Paul, MN 55104, Telephone (651) 234-7658.

SUPPLEMENTARY INFORMATION: The FHWA, in cooperation with the Minnesota Department of Transportation (MnDOT) will prepare a Tier 1 EIS for proposed improvements in the I-94 corridor between the I-35W/TH 55 interchange and the I-94/I-35E interchange, approximately eight miles. The EIS will evaluate the social, economic, transportation and environmental impacts of alternatives, including the No-Build Alternative.

The preliminary purpose of this project as identified by FHWA and MnDOT is to address infrastructure needs; highway safety issues; accommodate existing and projected traffic volumes; and improve person throughput. Opportunities to address the bicycle/pedestrian experience crossing I-94, physical infrastructure condition, and stormwater management will also be part of the Tier I EIS. There will be opportunities for public and agency involvement in further defining the Purpose and Need of the project.

The FHWA and MnDOT have decided to prepare a Tiered EIS to analyze the project on a broad scale and identify a preferred alternative for the I-94 mainline and will identify areas for access modifications/changes at existing interchanges and overpass locations. Footprinting will be used to identify potential impact areas around these locations. The Tier 1 EIS will evaluate the social, economic, and environmental impacts for a range of alternatives within the existing I-94 corridor. A program of projects will be identified for future Tier 2 environmental documents.

Subsequent Tier 2 environmental documents will be prepared with a greater degree of engineering detail for specific improvements in the corridor. The alternative analysis in the Tier 2 documents will include, but is not limited to, the alternatives that have been developed as part of Tier 1 EIS.

Because the project is combining Minnesota Environmental Policy Act (MEPA) and Federal National Environmental Policy Act (NEPA) processes, the first document to be produced as part of the efforts will include a Scoping Document/Draft Scoping Decision Document. The Scoping Document/Draft Scoping Decision Document (SD/DSDD) is anticipated to be published in early 2021. A press release will be published to inform the public of the document's availability. Copies of the SD/DSDD will be published on a MnDOT website as well as distributed to agencies, interested persons and libraries for review to aid in identifying issues and analyses to be contained in the Tier 1 EIS. A 30-day comment period for review of the document will be provided to afford an opportunity for all interested persons, agencies and groups to comment on the proposed action. A public hearing will be held during the comment period. A public notice will give the date, time, and place of the meeting. The Scoping Decision Document will be published after the public comment period has closed on the SD/DSDD.

A Tier 1 Draft Environmental Impact Statement (DEIS) will be prepared based on the outcome of and closely following the scoping process. The Tier 1 DEIS will be available for agency and public review and comment. A public hearing will be held following completion of the Tier 1 DEIS. A public notice will give the date, time, and location of the public hearing. Coordination has been initiated and will continue with appropriate Federal, State, regional, and local agencies and private organizations and citizens who have previously expressed or are known to have an interest in the proposed action. The Tier 1 DEIS will be prepared in accordance with 23 U.S.C. 139, 23 CFR 771 and 40 CFR parts 1500-1508. Completion of the DEIS is anticipated in 2022, and the combined final EIS and Record of Decision (ROD) in 2023.

Public involvement is a critical component of the National Environmental Policy Act (NEPA). All environmental documents will be made available for review by Federal and State resource agencies and the public. Invitations have been issued to Federal, State and local agencies to engage in the development of the Tier 1 EIS as either Cooperating or Participating Agencies. Cooperating Agencies are anticipated to be the following: US Environmental Protection Agency, US Federal Railroad Administration, and US Federal Transit Administration. Participating Agencies are anticipated to be the following: Cities of Minneapolis and Saint Paul, Hennepin and Ramsey Counties, Metropolitan Council and Metro Transit, Minnesota Department of Natural Resources, Minnesota Indian Affairs Council, Minnesota Pollution Control Agency, Minnesota Department of Health, Minnesota Department of Commerce, Board of Water and Soil Resources, Office of the State Archaeologist, State Historic Preservation Office, Capitol Region Watershed District, Mississippi Watershed Management Organization, Capitol Area Architectural and Planning Board, and Minneapolis Park and Recreation Board.

Specific efforts to encourage involvement and solicit comments from minority and low-income populations in the project study area is also a critical component of the Tier 1 EIS. A public website will be maintained for the EIS to provide information about the project. To ensure the full range of issues related to the proposed action are addressed and all significant issues identified, comments and suggestions are invited from all interested parties. Comments or questions concerning the proposed action and Tier 1 EIS process should be directed to the FHWA at the address provided above.

Projects receiving Federal funds must comply with Title VI of the Civil Rights Act, and Executive Order 12898 “Federal Actions to Address Environmental Justice in Minority Populations and Low-Income Populations.” Federal law prohibits discrimination on the basis of race, color, age, sex, or country of national origin in the implementation of this project. It is also Federal policy to identify and address any disproportionately high and adverse effects of federal projects on the health or environment of minority and low-income populations to the greatest extent practicable and permitted by law.

This project is utilizing a National Environmental Policy Act (NEPA)/404 merger process to seek concurrence by multiple Federal agencies on the project's purpose and need, range of alternatives to be considered, range of alternatives to be evaluated in detail, and selection of a preferred alternative. In addition to the Federal Highway Administration as the lead Federal agency for this NEPA effort, the NEPA/404 merger process includes the following Federal agencies: United States Army Corps of Engineers, the United States Environmental Protection Agency.

(Catalog of Federal domestic Assistance Program Number 20.205, Highway Planning and Construction. The regulations implementing Executive Order 12372 regarding intergovernmental consultation on federal programs and activities apply to this program).

Issued on: February 13, 2020.
Wendall L. Meyer,
Division Administrator, Federal Highway Administration.

[FR Doc. 2020-03407 Filed 2-19-20; 8:45 am]

BILLING CODE 4910-22-P